DEPARTMENT OF COMMERCE

International Trade Administration

[A-357-812]

Honey From Argentina: Corrected Final Results of Antidumping Duty Administrative Review

AGENCY: Import Administration, International Trade Administration, Department of Commerce.

ACTION: Correction to final results of antidumping duty administrative review.

EFFECTIVE DATE: October 4, 2004.

FOR FURTHER INFORMATION CONTACT: Brian J. Sheba or Robert M. James, Antidumping and Countervailing Duty Operations Office Seven, Import Administration, International Trade Administration, U.S. Department of Commerce, 14th Street and Constitution Avenue, NW., Washington, DC 20230, telephone: (202) 482-0145 or (202) 482-0649, respectively.

Background

On May 27, 2004, the Department of Commerce (the Department) published in the Federal Register its notice of final results of the antidumping duty administrative review of honey from Argentina for the period May 11, 2001 through November 30, 2002. See Honey from Argentina: Final Results of Antidumping Duty Administrative Review, 69 FR 30283 (May 27, 2004). Subsequent to the final results, the Department has discovered a typographical error in its “all others” cash deposit rate. The Department mistakenly used the “all others” rate in the investigation final determination, rather than the corrected “all others” rate published in the antidumping duty order. See Notice of Final Determination of Sales at Less Than Fair Value; Honey From Argentina, 66 FR 50611 (Oct. 4, 2001), Notice of Amended Final Determination of Sales at Less Than Fair Value; Honey From Argentina, 66 FR 58434 (Nov. 21, 2001), and Notice of Antidumping Duty Order; Honey From Argentina, 66 FR 63672 (Dec. 10, 2001).

We now correct the final results of the 2001-2002 antidumping duty administrative review of honey from Argentina as noted above. As a result of this correction, the “all others” cash deposit rate is 30.24 percent ad valorem.

These amended final results are issued and published in accordance with sections 751(a)(1) and 777(i)(1) of the Tariff Act.

Dated: September 28, 2004.
James J. Jochum,
Assistant Secretary for Import Administration.

[FR Doc. E4-2477 Filed 10-1-04; 8:45 am]

BILLING CODE 3510-DS-P